DEPARTMENT OF COMMERCE

National Oceanic and Atmospheric Administration

[RTID 0648-XC969]

Marine Mammals; File No. 26939

AGENCY: National Marine Fisheries Service (NMFS), National Oceanic and Atmospheric Administration (NOAA), Commerce.

ACTION: Notice; receipt of application.

SUMMARY: Notice is hereby given that NMFS' Northeast Fisheries Science Center, 166 Water Street, Woods Hole, MA 02543 (Responsible Party: Jon Hare, Ph.D.), has applied in due form for a permit to conduct research on pinnipeds.

DATES: Written, telefaxed, or email comments must be received on or before June 1, 2023.

ADDRESSES: The application and related documents are available for review by selecting “Records Open for Public Comment” from the “Features” box on the Applications and Permits for Protected Species (APPS) home page, https://apps.nmfs.noaa.gov, and then selecting File No. 26939 from the list of available applications. These documents are also available upon written request via email to NMFS.Pr1Comments@noaa.gov.

Written comments on this application should be submitted via email to NMFS.Pr1Comments@noaa.gov. Please include File No. 26939 in the subject line of the email comment.

Those individuals requesting a public hearing should submit a written request via email to NMFS.Pr1Comments@noaa.gov. The request should set forth the specific reasons why a hearing on this application would be appropriate.

FOR FURTHER INFORMATION CONTACT: Sara Young or Shasta McClenahan, Ph.D., (301) 427-8401.

SUPPLEMENTARY INFORMATION: The subject permit is requested under the authority of the Marine Mammal Protection Act of 1972, as amended (MMPA; 16 U.S.C. 1361 et seq.) and the regulations governing the taking and importing of marine mammals (50 CFR part 216).

The applicant requests a 5-year permit to conduct pinniped stock assessment research, including estimation of distribution and abundance, determination of stock structure, habitat requirements, foraging ecology, health assessment, and effects of natural and anthropogenic factors. Research will primarily be on harbor seals (Phoca vitulina) and gray seals (Halichoerus grypus), and secondarily on harp seals (Pagophilus groenlandicus) and hooded seals (Cystophora cristata). The study area includes waters within or proximal to the U.S. and international waters from North Carolina north to Maine, and Canadian waters in the Gulf of Maine. Pinnipeds may be harassed during vessel and aircraft (manned and unmanned) transect and photo-identification surveys, and scat collection. Annually, up to 100 harbor seals, 350 gray seals, 5 harp seals, and 5 hooded seals will be captured, sampled, and released for measurement of body condition, biological sampling (e.g., blood, blubber, skin, hair, swab samples, vibrissae), and attachment of telemetry devices. An additional 8,180 harbor seals and 15,765 gray seals may be unintentionally harassed annually during research. The applicant requests unintentional mortality during captures of up to 5 gray, 5 harbor, 1 harp, and 1 hooded seals annually. The applicant also requests to import and export samples for analysis. See application for detailed numbers by species, age-class, and procedure. The permit would be valid for 5 years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: April 26, 2023.
Julia M. Harrison,
Chief, Permits and Conservation Division, Office of Protected Resources, National Marine Fisheries Service.

[FR Doc. 2023-09235 Filed 5-1-23; 8:45 am]

BILLING CODE 3510-22-P